DEPARTMENT OF THE INTERIOR

National Park Service

30-Day Notice of Submission of Study Package to Office of Management and Budget; Opportunity for Public Comment

AGENCY: Department of the Interior; National Park Service.

ACTION: Notice and request for comments.

SUMMARY: Under provisions of the Paperwork Reduction Act of 1995 and 36 CFR Part 51, Subpart C, regarding the Solicitation, Selection and Award Procedures, the National Park Service invites comments on a currently approved collection of information (OMB Control # 1024-0125).

The OMB has up to 60 days to approve or disapprove the requested information collection, but may respond after 30 days. Therefore, to ensure maximum consideration, OMB should receive public comments within 30 days of the date on which this notice is published in the Federal Register.

The National Park Service published the 60-day Federal Register notice to solicit comments on this proposed information collection on August 6, 2009, on pages 39335-39336.

DATES: Public comments on the proposed Information Collection Request (ICR) will be accepted for 30 days from the date of publication in the Federal Register.

ADDRESSES: You may submit comments directly to the Desk Officer for the Department of the Interior, (OMB #1024-0125) Office of Information and Regulatory Affairs, OMB by fax at 202/395-5806, or by electronic mail at OIRA_DOCKET@omb.eop.gov. Please also send a copy of your comments to Ms. Jo A. Pendry, Concession Program Manager, National Park Service, 1849 C Street, NW. (2410), Washington, DC 20240, or electronically to jo_pendry@nps.gov.

FOR FURTHER INFORMATION CONTACT: Jo A. Pendry, phone: 202-513-7156, fax: 202-371-6662, or at the address above. You are entitled to a copy of the entire ICR package free-of-charge.

There were no public comments received as a result of publishing in the Federal Register a 60-day Notice of Intention to Request Clearance of Information Collection for this survey.

SUPPLEMENTARY INFORMATION:

Title: Submission of Offers in Response to Concession Opportunities.

OMB Control Number: 1024-0125.

Expiration Date of Approval: January 31, 2010.

Type of Request: Extension of a currently approved information collection.

Description of Need: The regulations at 36 CFR Part 51 primarily implement Title IV of the National Parks Omnibus Management Act of 1998 (Pub. L. 105-391 or the Act), which provides new legislative authority, policies and requirements for the solicitation, award and administration of National Park Service (NPS) concession contracts. The regulations require the submission of offers by parties interested in applying for a NPS concession contract.

NPS has submitted a request to OMB to renew approval of the collection of information in 36 CFR Part 51, Subpart C, regarding Solicitation, Selection, and Award Procedures. NPS is requesting a 3-year term of approval for this information collection activity.

An agency may not conduct or sponsor, and a person is not required to respond to, a collection of information unless it displays a currently valid OMB control number. The OMB control number for this collection of information is 1024-0125, and is identified in 36 CFR Section 51.104.

Estimate of Burden: Approximately 480 hours per response for large operations. Approximately 240 hours per response for small operations.

Estimated Number of Respondents: Approximately 160 for small operations. Approximately 80 for large operations.

Estimated Number of Responses per Respondent: One.

Estimated Total Annual Burden on Respondents: 38,400 hours for small operations. 38,400 hours for large operations. 76,800 Total.

Send comments on (1) The accuracy of the agency's burden estimates; (2) ways to minimize the burden, including the use of automated collection techniques or other forms of information technology; (3) or any other aspect of this collection to the Office of Management and Budget at the following address. Please refer to OMB control number 1024-0125 in all correspondence.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: December 16, 2009.
Cartina A. Miller,
NPS Information Collection Clearance Officer, Washington Administrative Program Center.

[FR Doc. E9-31021 Filed 12-29-09; 8:45 am]

BILLING CODE 4313-53-P